ENVIRONMENTAL PROTECTION AGENCY

[FRL -7540-4]

Science Advisory Board Staff Office; Notification of Upcoming Science Advisory Board Meetings of the Multimedia, Multipathway, and Multireceptor Risk Assessment (3MRA) Modeling System Panel

AGENCY: Environmental Protection Agency (EPA).

ACTION: Notice.

SUMMARY: The EPA Science Advisory Board (SAB) Staff Office announces four conference calls and two face-to-face SAB meetings of the Multimedia, Multipathway, and Multireceptor Risk Assessment (3MRA) Modeling System Panel.

DATES: August 15, 2003. A public teleconference call meeting of the 3MRA Panel will be held from 10 a.m. to 12 noon (Eastern Time).

August 26-27, 2003. A face-to-face meeting of the 3MRA Panel will be held from 9 a.m. August 26 to 4 p.m. August 27 (Eastern Time).

September 16, 2003. A public teleconference call meeting of the 3MRA Panel will be held from 3 to 5 p.m. (Eastern Time).

October 9, 2003. A public teleconference call meeting of the 3MRA Panel will be held from 1 p.m. to 4 p.m. (Eastern Time).

October 28-30, 2003. A face-to-face meeting of the 3MRA Panel will be held from 9 a.m. October 28 to 4 p.m. October 30 (Eastern Time).

November 24, 2003. A public teleconference call meeting for the 3MRA Panel will be held from 1 to 4 p.m. (Eastern Time).

ADDRESSES: Participation in the four teleconference meetings will be by teleconference only. The meeting location for both face-to-face meetings of the 3MRA Panel will be in the greater Washington, DC. metropolitan area. The meeting location will be announced on the SAB Web site, http://www.epa/sab two weeks before the meeting.

FOR FURTHER INFORMATION CONTACT: Members of the public who wish to obtain the call-in number and access code to participate in the teleconference meetings may contact Ms. Sandra Friedman, EPA Science Advisory Board Staff, at telephone/voice mail: (202) 564-2526; or via e-mail at: friedman.sandra@epa.gov, or Ms. Delores Darden, EPA Science Advisory Board Staff at telephone/voice mail: (202) 564-2282; or via e-mail at darden.delores@epa.gov. Any member of the public wishing further information regarding the SAB or the 3MRA Panel may contact Ms. Kathleen White, Designated Federal Officer (DFO), U.S. EPA Science Advisory Board (1400A), 1200 Pennsylvania Avenue, NW., Washington, DC 20460; by telephone/voice mail at (202) 564-4559; or via e-mail at white.kathleen@epa.gov. General information about the SAB can be found in the SAB Web site at http://www.epa.gov/sab.

SUPPLEMENTARY INFORMATION: Background: Pursuant to the Federal Advisory Committee Act, Pub. L. 92-463, Notice is given that the 3MRA Panel will hold public teleconferences, as described above, to prepare for the public meetings, also described above, to further the Panel's review, and to discuss approval of the Panel's final report. The purpose of the public meetings is to advise the Agency on its Multimedia, Multipathway, and Multireceptor Risk Assessment (3MRA) Modeling System.

Background on the SAB, the 3MRA Panel, and this review was provided in a Federal Register notice published on April 11, 2003 (68 FR 17797-17800).

More information regarding this review can be found at the SAB Web site at http://www.epa.gov/sab/panels/3mramspanel.html. The review documents and background information are located at http://www.epa.gov/epaoswer/hazwaste/id/hwirwste/risk.htm. Individuals who are unable to access the documents electronically may contact Mr. Stephen Kroner of the Office of Solid Waste at (703) 308-0468 or via e-mail to kroner.stephen@epa.gov to make other arrangements. A very limited number of paper copies can be made available in special circumstances.

Procedures for Providing Public Comment: It is the policy of the EPA Science Advisory Board (SAB) Staff Office to accept written public comments of any length, and to accommodate oral public comments whenever possible. The EPA SAB Staff Office expects that public statements presented at the 3MRA Panel's meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing (e-mail, fax or mail) at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: One hard copy with original signature, and one electronic copy via e-mail (acceptable file format: Adobe Acrobat, WordPerfect, Word, or Rich Text files (in IBM-PC/Windows 95/98 format). Those providing written comments and who attend the meeting are also asked to bring 35 copies of their comments for public distribution.

Meeting Accommodations: Individuals requiring special accommodation to access these meetings, should contact Ms. White at least five business days prior to the meeting so that appropriate arrangements can be made.

Dated: July 24, 2003.
Vanessa T. Vu,
Director, EPA Science Advisory Board Staff Office.

[FR Doc. 03-20036 Filed 8-5-03; 8:45 am]

BILLING CODE 6560-50-P